DEPARTMENT OF ENERGY

Office of Energy Efficiency and Renewable Energy

Proposed Agency Information Collection

AGENCY: Department of Energy.

ACTION: Notice and request for comments.

SUMMARY: The Department of Energy (DOE) invites public comment on a proposed information collection that DOE is developing for submission to the Office of Management and Budget (OMB), pursuant to the Paperwork Reduction Act of 1995, (44 U.S.C. 3501 et seq.). This information collection would collect information from Combined Heat and Power (CHP) facilities concerning the details of newly installed CHP power systems.

DATES: Consideration will be given to comments submitted by July 18, 2000.

ADDRESSES: Written comments may be submitted to the U.S. Department of Energy, Office of Industrial Technologies, Attn: Thomas J. King, Room 5F-064, 1000 Independence Avenue, SW, Washington, DC 20585.

FOR FURTHER INFORMATION CONTACT: Thomas J. King, (202) 586-2387.

SUPPLEMENTARY INFORMATION Collection Title: U.S. Department of Energy/Combined Heat and Power Registry

Type of Review: New collection.

OMB Number: None.

Type of Respondents: Individuals, Businesses, State and Local Governments.

Estimated Number of Respondents: 1,000.

Estimated Total Burden Hours: 500.

Frequency of Response: One time only.

Abstract: DOE plans to publicize widely the existence of the registry through it Regional Offices, the CHP website, meetings, conferences and the like, and through its relationship with CHP organizations. Due to the recent high level of interest in CHP, DOE expects that many CHP installers, individuals, utilities, governments, and businesses will wish to register their CHP systems in order to gain recognition on the CHP webpage and also be potentially eligible for an award. Registration would take place electronically (a paper form would be available upon request) by responding to a series of very brief questions. If a system met the established criteria, a CHP certificate would be sent to the facility. Registration would take place one time only. DOE plans to aggregate the data and generate reports detailing the geographic distribution of systems and among other things, the sizes and types of systems. This data collection will assist DOE in its management of and planning for the continued success of the CHP initiative.

Request for Comments: Pursuant to 44 U.S.C. 3506(c)(2)(A), DOE invites comments on: (1) Whether the proposed collection of information is necessary to measure the progress and success of the CHP registry; (2) the accuracy of DOE's estimate of the burden of the proposed information collection; (3) ways to enhance the quality, utility, and clarity of the information to be collected; and (4) ways to minimize the burden of the collection of information on those who choose to respond. Additional information about DOE's proposed information collection may be obtained from the contact person named in this notice.

Issued in Washington, DC on May 9, 2000.
Dan Reicher,
Assistant Secretary, Office of Energy Efficiency and Renewable Energy.

[FR Doc. 00-12635 Filed 5-18-00; 8:45 am]

BILLING CODE 6450-01-P